ENVIRONMENTAL PROTECTION AGENCY

40 CFR Parts 51 and 52

[EPA-HQ-OAR-2005-0163; FRL-8321-9]

RIN-2060-AN28

Supplemental Notice of Proposed Rulemaking for Prevention of Significant Deterioration (PSD) and Nonattainment New Source Review (NSR): Emission Increases for Electric Generating Units

AGENCY: Environmental Protection Agency (EPA).

ACTION: Notice of public hearing.

SUMMARY: The EPA is announcing a public hearing to be held on June 29, 2007 for the supplemental proposed rule on “Prevention of Significant Deterioration (PSD) and Nonattainment New Source Review (NSR): Emission Increases for Electric Generating Units.” This rulemaking action was published in the Federal Register on May 8, 2007 and proposes options to change the emissions increase test used to determine if the NSR permitting program would apply when an existing power plant makes a physical or operational change. The public hearing will provide interested parties the opportunity to present data, views, or arguments concerning these proposed changes.

DATES: The public hearing will convene at 9 a.m. on June 29, 2007, and continue until 1 hour after the last registered speaker has spoken. People wishing to present oral testimony must pre-register by 5 p.m. on June 28, 2007. The EPA is willing to keep the public hearing open into the evening hours of June 29, 2007, if speakers are pre-registered by the registration deadline of 5 p.m. on June 28, 2007, and have registered to speak during evening hours. For updates and additional information on the public hearing, please check EPA's Web site for this rulemaking at http://www.epa.gov.nsr/.

ADDRESSES: The public hearing will be held at U.S. Environmental Protection Agency, 109 TW Alexander Drive, Research Triangle Park, North Carolina 27709, Building C, Auditorium. Because this hearing is being held at U.S. government facilities, everyone planning to attend the hearing should be prepared to show valid picture identification to the security staff in order to gain access to the meeting room. In addition, you will need to obtain a property pass for any personal belongings you bring with you. Upon leaving the building, you will be required to return this property pass to the security desk. No large signs will be allowed in the building, cameras may only used inside the classroom and outside of the building, and demonstrations will not be allowed on Federal property for security reasons. Directions to the EPA Campus are available on the Internet at http://www.epa.gov/rtp/facilities/maindirections.htm, along with a map showing the area designated for visitor parking. From there, walk toward the main facility and enter the center building (by the U.S. and EPA flags).

FOR FURTHER INFORMATION CONTACT: If you would like to speak at the public hearing or have questions concerning the public hearing, please contact Ms. Pamela Long, U.S. Environmental Protection Agency, OAQPS, Air Quality Planning Division, (C504-03), Research Triangle Park, NC 27711, telephone (919) 541-0641, fax number (919) 541-5509, e-mail address, long.pam@epa.gov.

Questions concerning the May 8, 2007, proposed rule should be addressed to Mr. David Svendsgaard, U.S. EPA, Office of Air Quality Planning and Standards, Air Quality Policy Division, (C504-03), Research Triangle Park, NC 27711, telephone number (919) 541-2380, e-mail at svendsgaard.dave@epa.gov.

SUPPLEMENTARY INFORMATION: The May 8, 2007, proposed rule is a supplemental notice to EPA's October 20, 2005 notice of proposed rulemaking. In the October 2005 notice, we proposed three options to revise the NSR emissions test for existing electric generating units: A maximum achievable hourly emissions test, a maximum achieved hourly emissions test, and an output-based hourly emissions test. The May 2007 notice recast the previously proposed options so that the output-based test becomes an alternative method to implement the maximum achieved or maximum achievable hourly tests, rather than a separate option. It also proposed a new option in which the hourly emissions increase test is added to the existing requirements for computing a significant increase and a significant net emissions increase on an annual basis. It also included proposed rule language and supplemental information for the October 2005 proposal, including an examination of the impacts on emissions and air quality.

Public hearing: The proposal for which EPA is holding the public hearing was published in the Federal Register on May 8, 2007, (72 FR 26202) and is available at: http://www.access.gpo.gov/su_docs/fedreg/a070508c.html. The public hearing will provide interested parties the opportunity to present data, views, or arguments concerning the supplemental rule proposal. The EPA may ask clarifying questions during the oral presentations, but will not respond to the presentations at that time. Written statements and supporting information submitted during the comment period will be considered with the same weight as any oral comments and supporting information presented at the public hearing. Written comments on the proposed rule must be postmarked by July 9, 2007, which is the closing date for the comment period, as specified in the proposal for the rule. However, the record will remain open until July 30, 2007, to allow 30 days after the public hearing for submittal of additional information related to the hearing.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedule, including lists of speakers, will be posted on EPA's Web site http://www.epa.gov/nsr/. Verbatim transcripts of the hearing and written statements will be included in the docket for the rulemaking.

How Can I Get Copies of This Document and Other Related Information?

The EPA has established the official public docket for the supplemental proposed rule entitled “Supplemental Notice of Proposed Rulemaking for Prevention of Significant Deterioration (PSD) and Nonattainment New Source Review (NSR): Emission Increases for Electric Generating Units” under Docket ID No. EPA-HQ-OAR-2005-0163.

As stated previously, the proposed rule was published in the Federal Register on May 8, 2007 (72 FR 26202) and is available at http://www.access.gpo.gov/su_docs/fedreg/a070508c.html.

Dated: May 29, 2007.
Jenny Noonan Edmonds,
Acting Director, Office of Air Quality Planning and Standards.

[FR Doc. E7-10855 Filed 6-6-07; 8:45 am]

BILLING CODE 6560-50-P